DEPARTMENT OF ENERGY

Federal Energy Regulatory Commission

Notice of Application Tendered for Filing With the Commission, Soliciting Additional Study Requests, and Establishing Procedural Schedule for Relicensing and a Deadline for Submission of Final Amendments

May 9, 2006.

Take notice that the following hydroelectric application has been filed with the Commission and is available for public inspection.

a. Type of Application: A Subsequent License. (Minor Project).

b. Project No.: 946-007.

c. Date Filed: April 28, 2006.

d. Applicant: Hyrum City.

e. Name of Project: Hyrum City Hydroelectric Project.

f. Location: On the Blacksmith Fork River in Hyrum City, Cache County, Utah. The project affects about 17.03 acres of Federal lands within the Wasatch Cache National Forest.

g. Filed Pursuant to: Federal Power Act 16 U.S.C. 791 (a)-825(r).

h. Applicant Contact: Dean Howard, Mayor, Hyrum City, 83 West Main Street, Hyrum, Utah 84319; (435) 245-6033, or Ken Tuttle or Mike Wilcox, Sunrise Engineering, Inc., 25 East 500 North, Fillmore, UT 84631; (435) 743-6151.

i. FERC Contact: Gaylord Hoisington, (202) 502-6032 or gaylord.hoisington@FERC.gov.

j. Cooperating Agencies: We are asking Federal, State, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 27, 2006.

All documents (original and eight copies) should be filed with: Magalie R. Salas, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The existing Hyrum City's Hydropower Project was initially constructed in 1930-1931, after receiving an original license on November 27, 1929. The project has been licensed since that time with one amendment in 1977, and one renewal in 1981. The current license expires on April 30, 2008. The run-of-river, base-load plant operates on 85-cubic-foot-per-second of water diverted by a diversion dam located in Blacksmith Fork Canyon. The 3,419-foot-by-passed reach is not de-watered because the flows in the river exceeds the capacity of the plant, and during low flows, Hyrum City operates the plant at less than maximum flow to maintain a continuous flow throughout the river channel for aesthetic enjoyment in the city park that adjoins the powerhouse.

The project includes the following constructed facilities: (1) A 15-foot-high, 70-foot-long earth-fill concrete core embankment to the north, a 14-foot-high, 65-foot-long concrete spillway section, a 15-foot-high, 125-foot-long earth-fill concrete core embankment to the north which makes the total length of the dam approximately 260-foot-long; (2) a 16-foot-high, 8-foot-wide concrete intake structure with a 20-foot-high, 8-foot-wide trash rack and fish ladder; (3) a 60-inch-diameter concrete penstock inlet with head gate; (4) a 3,470-foot-long, 48-inch-diameter concrete penstock going into a 130-foot-long, 42-inch-diameter steel penstock; (5) a 37-acre-foot de-silting pond; (6) a 26-foot-wide, 39-foot-long, 20-foot-high brick powerhouse; (7) a 400-kilowatt Leffel horizontal shaft scroll case turbine; (8) a 100-foot, 2.4-kV underground transmission line; and (9) appurtenant facilities.

The average annual generation of the project is approximately 3,083,000 kilowatt-hours and there are no proposed changes to the facilities or the current mode of operation at this time.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. Procedural schedule and final amendments: The application will be processed according to the following Hydro Licensing Schedule. Revisions to the schedule will be made as appropriate.

Issue Deficiency letter—June 2006.

Issue Acceptance letter—July 2006.

Issue Scoping Document 1 for comments—September 2006.

Request Additional Information—November 2006.

Issue Scoping Document 2—January 2007.

Notice of application is ready for environmental analysis—February 2007.

Notice of the availability of the environmental analysis—April 2007.

Ready for Commission's decision on the application—June 2007.

Final amendments to the application must be filed with the Commission no later than 30 days from the issuance date of the notice of ready for environmental analysis.

Magalie R. Salas,
Secretary.

[FR Doc. E6-7375 Filed 5-15-06; 8:45 am]

BILLING CODE 6717-01-P